ENVIRONMENTAL PROTECTION AGENCY

[FRL-9224-2]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held December 2 and 3, 2010 at the Westin City Center, 1400 M Street, NW., Washington, DC. The CHPAC was created to advise the Environmental Protection Agency on science, regulations, and other issues relating to children's environmental health.

DATES: The CHPAC will meet December 2 and 3, 2010.

ADDRESSES: Westin City Center, 1400 M Street, NW., Washington, DC.

FOR FURTHER INFORMATION CONTACT: Martha Berger, Office of Children's Health Protection, USEPA, MC 1107T, 1200 Pennsylvania Avenue, NW., Washington, DC 20460, (202) 564-2191, berger.martha@epa.gov.

SUPPLEMENTARY INFORMATION: The meetings of the CHPAC are open to the public. The CHPAC will meet on Thursday, December 2 from 8:30 a.m. to 5 p.m., and Friday, December 3 from 9 a.m. to 12:30 p.m. Agenda will be posted at http://www.epa.gov/children.

Access: For information on access or services for individuals with disabilities, please contact Martha Berger at 202-564-2191 or berger.martha@epa.gov.

Dated: November 1, 2010.
Martha Berger,
Designated Federal Official.

[FR Doc. 2010-28384 Filed 11-9-10; 8:45 am]

BILLING CODE 6560-50-P